NATIONAL ARCHIVES AND RECORDS ADMINISTRATION

[NARA-2016-045]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records not previously authorized for disposal or reduce the retention period of records already authorized for disposal. NARA invites public comments on such records schedules, as required by 44 U.S.C. 3303a(a).

DATES: NARA must receive requests for copies in writing by September 15, 2016. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0145-2016-0005, 1 item, 1 temporary item). Rural environmental program case files, including agreements, payment documents, contracts, and correspondence.

2. Department of the Army, Agency-wide (DAA-AU-2016-0009, 1 item, 1 temporary item). Master files of an electronic information system containing records related to parts used for equipment maintenance purposes.

3. Department of Defense, Defense Threat Reduction Agency (DAA-0374-2014-0002, 1 item, 1 temporary item). Records related to a force protection program including briefing documents, security reports, security plans, standard operating procedures, and related documents.

4. Department of Energy, Agency-wide (DAA-0434-2016-0008, 1 item, 1 temporary item). Master files of an electronic information system that contains records related to the ombudsman program including case file information, administrative issues raised, and services provided.

5. Department of Health and Human Services, Administration for Children and Families (DAA-0292-2016-0012, 26 items, 19 temporary items). Program records of the Office of Refugee Resettlement, including case files, program analysis files, regulation development files, and monitoring and periodic reports. Proposed for permanent retention are annual and special reports to Congress, Congressional testimony background materials, policy precedent files, master files of an electronic information system used to compile statistics and reports on the refugee resettlement program, guidance and instructional records, and formal program reviews.

6. Department of Health and Human Services, Administration for Children and Families (DAA-0292-2016-0013, 2 items, 2 temporary items). Records related to Web site content and Web site administrative policies and procedures.

7. Department of Health and Human Services, Agency for Healthcare Research and Quality (DAA-0510-2016-0001, 3 items, 3 temporary items). Administrative records of the Patient Safety Organization Program including certifications, correspondence, final reports, forms, letters, notes, and research and analysis files.

8. Department of Homeland Security, Transportation Security Administration (DAA-0560-2016-0002, 1 item, 1 temporary item). Checkpoint sign-in logs for individuals authorized for specialized screening.

9. Department of Homeland Security, Transportation Security Administration (DAA-0560-2016-0003, 1 item, 1 temporary item). Financial and administrative records relating to reimbursement for services at airports provided by local law enforcement agencies.

10. Department of Homeland Security, United States Citizenship and Immigration Services (DAA-0566-2016-0014, 3 items, 3 temporary items). Master files of electronic information systems used to generate official form letters related to the processing of applications, petitions, and requests for immigration benefits.

11. Department of Justice, Bureau of Alcohol, Tobacco, Firearms, and Explosives (DAA-0436-2016-0002, 1 item, 1 temporary item). Marking variances used to determine origin and identification of firearms.

12. Department of Justice, Bureau of Alcohol, Tobacco, Firearms, and Explosives (DAA-0436-2016-0003, 2 items, 2 temporary items). Routine industry correspondence and reference correspondence files of the Office of Enforcement Programs and Services.

13. Department of Justice, Bureau of Alcohol, Tobacco, Firearms, and Explosives (DAA-0436-2016-0004, 1 item, 1 temporary item). Reports prepared on examination and technical analysis of criminal evidence.

14. Department of the Navy, Agency-wide (DAA-NU-2015-0012, 15 items, 13 temporary items). Records related to civilian personnel management including training materials, personnel injury reports, personnel security files, overseas allowances, and training records. Proposed for permanent retention are policy and planning records and departmental civilian awards files.

15. Department of the Treasury, Internal Revenue Service (DAA-0058-2016-0013, 1 item, 1 temporary item). Master files of an electronic information system used to identify foreign corporate non-filers of income tax returns.

16. Department of the Treasury, Internal Revenue Service (DAA-0058-2016-0017, 1 item, 1 temporary item). Content and management records of a Web site used to facilitate internal communications.

17. General Services Administration, Agency-wide (DAA-0269-2016-0003, 5 items, 4 temporary items). Records accumulated while controlling and monitoring the resolution and implementation of external agency audit reports. Proposed for permanent retention are reports made to external agencies.

18. General Services Administration, Agency-wide (DAA-0269-2016-0004, 5 items, 2 temporary items). Investigative case files and related records of contractors or potential contractors for in regard to suspension from contracting with the Federal government. Proposed for permanent retention are estimates, justifications, and reports of the annual budget.

19. General Services Administration, Civilian Board of Contract Appeals (DAA-0269-2016-0002, 3 items, 3 temporary items). Contracting appeals and claims case files, and alternative dispute resolution records.

20. General Services Administration, Office of General Counsel (DAA-0269-2016-0001, 6 items, 4 temporary items). Program management records, litigation case files, and records relating to real property, ethics and financial disclosure, and legal assistance. Proposed for permanent retention are official opinions, significant litigation case files, and real property acquisition and ownership records.

21. National Archives and Records Administration, Government-wide (DAA-GRS-2016-0007, 2 items, 2 temporary items). General Records Schedule for phased retirement program administrative and individual case records.

22. Peace Corps, Office of Global Operations (DAA-0490-2016-0001, 7 items, 4 temporary items). Records of the Office of Overseas Programming and Training Support including routine training materials and certifications, copyright agreements, and general information on volunteer activities. Proposed for permanent retention are history files and records related to mission policy and training.

Laurence Brewer,
Chief Records Officer for the U.S. Government.

[FR Doc. 2016-19456 Filed 8-15-16; 8:45 am]

BILLING CODE 7515-01-P